DEPARTMENT OF HOMELAND SECURITY

Coast Guard

33 CFR Part 117

[USCG-2008-0785]

Drawbridge Operation Regulations; Shrewsbury River, Route 36 Bridge, Highlands, NJ, Schedule Change

AGENCY: Coast Guard, DHS.

ACTION: Notice of temporary deviation from regulations; request for comments.

SUMMARY: The Commander, First Coast Guard District, has issued a temporary deviation from the regulation governing the operation of the Route 36 Bridge, across the Shrewsbury River, mile 1.8, at Highlands, New Jersey. This deviation will test a change to the drawbridge operation schedule to determine whether a permanent change to the schedule is needed. This deviation will allow the bridge to open on signal for all marine traffic once an hour on the hour between 4 p.m. and 7 p.m. on weekends and holidays.

DATES: This deviation is effective from 4 p.m. on August 2, 2008, through 7 p.m. on September 1, 2008. Comments must reach the Coast Guard on or before November 1, 2008.

ADDRESSES: You may submit comments identified by Coast Guard docket number USCG-2008-0785 to the Docket Management Facility at the U.S. Department of Transportation. To avoid duplication, please use only one of the following methods:

(1) Online: http://www.regulations.gov.

(2) Mail: Docket Management Facility (M-30), U.S. Department of Transportation, West Building ground floor, Room W12-140, 1200 New Jersey Avenue, SE., Washington, DC 20590-0001.

(3) Hand Delivery: Same as mail address above, between 9 a.m. and 5 p.m., Monday through Friday, except Federal holidays. The telephone number is (202) 366-9329.

(4) Fax: (202) 493-2251.

FOR FURTHER INFORMATION CONTACT: Mr. Gary Kassof, Project Officer, First Coast Guard District, (212) 668-7165.

If you have questions on viewing or submitting material to the docket, call Renee V. Wright, Program Manager, Docket Operations, telephone (202) 366-9826.

SUPPLEMENTARY INFORMATION:

Public Participation and Request for Comments

We encourage you to participate in this rulemaking by submitting comments and related material. All comments received will be posted, without change, to http://www.regulations.gov and will include any personal information you have provided. We have an agreement with the Department of Transportation to use the Docket Management Facility.

Submitting Comments

If you submit a comment, please include the docket number for this rulemaking (USCG-2008-0785), indicate the specific section of this document to which each comment applies, and give the reason for each comment. We recommend that you include your name and mailing address, an e-mail address, or a phone number in the body of your document so that we can contact you if we have questions regarding your submission. You may submit your comments and materials by electronic means, mail, fax, or delivery to the Docket Management Facility at the address under ADDRESSES; but please submit your comments and materials by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing Comments and Documents

To view comments, as well as documents mentioned in this preamble as being available in the docket, go to http://www.regulations.gov at any time. Enter the docket number for this rulemaking (USCG-2008-0785) in the Search box, and click “Go>>.” You may also visit either the Docket Management Facility in Room W12-140, on the ground floor of the Department of Transportation West Building, 1200 New Jersey Avenue, SE., Washington, DC 20590-0001, between 9 a.m. and 5 p.m., Monday through Friday, except Federal holidays; or First Coast Guard District, Bridge Branch, One South Street, New York, NY 10004, between 9 a.m. and 5 p.m., Monday through Friday, except Federal holidays.

Privacy Act

Anyone can search the electronic form of all comments received into any of our dockets by the name of the individual submitting the comment (or signing the comment), if submitted on behalf of an association, business, labor union, etc. You may review a Privacy Act, system of records notice regarding our public dockets in the January 17, 2008, issue of the Federal Register (73 FR 3316).

Public Meeting

We do not plan to hold a public meeting. But you may submit a request for one to the Docket Management Facility at the address under ADDRESSES explaining why one would be beneficial. If we determine that one would aid this rulemaking, we will hold one at a time and place announced by a later notice in the Federal Register.

Background and Purpose

The Route 36 Bridge has a vertical clearance in the closed position of 35 feet at mean high water and 39 feet at mean low water. The existing drawbridge operation regulations are listed at 33 CFR 117.755(a). The bridge presently opens on the hour and half hour between 7 a.m. and 8 p.m. from May 15 through October 15, and on signal from 8 p.m. to 11 p.m. From 11 p.m. to 7 a.m. the bridge opens on signal after a four-hour advance notice is given.

The Shrewsbury River is navigated predominantly by recreational power boats and sail boats of various sizes.

Currently only one lane of vehicular traffic is open northbound on the Route 36 Bridge due to the Highlands Bridge replacement project presently underway. Two lanes of vehicular traffic were closed in early July 2008, to facilitate the new bridge construction.

As a result of the vehicular travel lane closures traffic congestion has become a major concern to motorists and local officials. The nearby Gateway National Recreation Area, operated by the National Park Service, has been particularly impacted on weekends by traffic delays as a result of the bridge construction and drawbridge openings for vessel traffic.

The National Park Service, the New Jersey Department of Transportation, and local officials have made various adjustments to traffic control to help mitigate the vehicular traffic congestion; however, the traffic congestion on weekends in the afternoon continues to be a major safety concern when motorists are exiting the Sandy Hook area and the Gateway National Recreation Park.

As a result, the National Park Service requested a temporary deviation from the drawbridge operation regulations to test an alternate drawbridge operation schedule to help better balance the needs between vehicular land traffic and marine vessel traffic.

Under this temporary deviation, in effect from August 2, 2008 through September 1, 2008, the Route 36 Bridge at mile 1.8, across the Shrewsbury River, shall operate as follows:

Monday through Friday, the draw shall open on signal, from 7 a.m. to 8 p.m., on the hour and half hour only. From 8 p.m. to 11 p.m. the draw shall open on signal. From 11 p.m. to 7 a.m. the draw shall open on signal after at least a four-hour notice is given by calling 732-872-1052.

Saturday, Sunday and Labor Day, the draw shall open on signal from 7 a.m. to 4 p.m., and 7 p.m. to 8 p.m. on the hour and half hour only. From 4 p.m. to 7 p.m. the draw shall open on signal once an hour, on the hour only. From 8 p.m. to 11 p.m. the draw shall open on signal. From 11 p.m. to 7 a.m. the draw shall open on signal after at least a four-hour advance notice is given by calling 732-872-1052.

In accordance with 33 CFR 117.35(e), the bridge must return to its regular operating schedule immediately at the end of the designated time period. This deviation from the operating regulations is authorized under 33 CFR 117.35.

Dated: July 31, 2008.
Gary Kassof,
Bridge Program Manager, First Coast Guard District.

[FR Doc. E8-18312 Filed 8-7-08; 8:45 am]

BILLING CODE 4910-15-P